DEPARTMENT OF AGRICULTURE

Submission for OMB Review; Notice of Request for Emergency Approval

May 18, 2022.

In compliance with the requirements of the Paperwork Reduction Act of 1995 (PRA), the Department of Agriculture (USDA) has submitted a request to the Office of Management and Budget (OMB) for a six-month emergency approval of the following information collection: ICR 0570-NEW, Meat and Poultry Intermediary Lending Program (MPILP). The requested approval would enable the implementation of this program to begin to increase the funds available to lenders to increase capacity for meat and poultry processing.

Rural Business-Cooperative Service

Title: Meat and Poultry Intermediary Lending Program (MPILP).

OMB Control Number: 0570-NEW.

Summary of Collection: The Rural Business-Cooperative Service is requesting emergency clearance approval for this information collection due to the need to effectively implement the program as quickly as possible to begin to increase the funds available to lenders to increase capacity for meat and poultry processing. Increasing capacity will help create a more diverse and secure U.S. food supply chain. Concentration within the meat and poultry sector had a disastrous effect on worker safety, producers' livelihood, and product availability at the height of the pandemic in 2020. This concentration must be addressed in order to avoid future disruptions and further price increases.

Levi S. Harrell,
Departmental Information Collection Clearance Officer.

[FR Doc. 2022-11057 Filed 5-23-22; 8:45 am]

BILLING CODE 3410-XY-P